DEPARTMENT OF ENERGY

Federal Energy Regulatory Commission

[Docket No. RP04-46-000]

Transwestern Pipeline Company; Notice of Tariff Filing

November 6, 2003.

Take notice that on November 3, 2003, Transwestern Pipeline Company (Transwestern) tendered for filing as part of its FERC Gas Tariff, Second Revised Volume No. 1, Second Revised Sheet No. 106-111, to become effective February 23, 2000.

Transwestern states that on October 1, 1992, First Revised Sheet Nos. 105-111 were canceled by the Commission's Order in Docket No. RS92-87. Subsequently, in Docket Nos. RP99-481-000 and 001, Transwestern states that it implemented the Form of Service Agreement for its Enhanced Firm Backhaul Service on Sheet Nos. 105 and 105A. Transwestern further states that it inadvertently did not file Revised Sheet Nos. 106 through No. 111 stating that these sheets remain canceled. In the instant filing, Transwestern states that it is filing tariff revisions on Second Revised Sheet Nos. 106-111 to correct the pagination in the tariff.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Magalie R. Salas,
Secretary.

[FR Doc. E3-00210 Filed 11-13-03; 8:45 am]

BILLING CODE 6717-01-P